DEPARTMENT OF HEALTH AND HUMAN SERVICES

National Institutes of Health

Correction Notice of Meeting; Moving Into the Future—New Dimensions and Strategies for Women's Health Research for the National Institutes of Health

The meeting notice published by the National Institutes of Health in the August 21, 2009, edition of the Federal Register, 74 FR 42312-423136, announcing the October 14-16 2009 scientific workshop to be convened by the Office of Research on Women's Health (ORWH) entitled “Moving Into the Future—New Dimensions and Strategies for Women's Health Research for the National Institutes of Health” contained incomplete information concerning program-specific and information concerning how to register for the meeting. We provide the necessary additional information below.

For program specific questions, persons are encouraged to go to jkhirsh@northwestern.edu. To register for the October 14-16 meeting, interested persons should go to http://www.orwhmeetings.com/movingintothefuture/northwestern.

Dated: August 24, 2009.
Vivian W. Pinn,
Associate Director for Research on Women's Health and Director, Office of Research on Women's Health, NIH, National Institutes of Health.

[FR Doc. E9-20883 Filed 8-28-09; 8:45 am]

BILLING CODE 4140-01-P